DEPARTMENT OF THE TREASURY

Office of Foreign Assets Control

Sanctions Actions Pursuant to Executive Orders 13224

AGENCY: Office of Foreign Assets Control, Treasury.

ACTION: Notice.

SUMMARY: The Treasury Department's Office of Foreign Assets Control (OFAC) is publishing the names of two individuals whose property and interests in property are blocked pursuant to Executive Order 13224 of September 23, 2001, “Blocking Property and Prohibiting Transactions With Persons Who Commit, Threaten To Commit, or Support Terrorism.”

DATES: OFAC's actions described in this notice are effective on December 1, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202-622-0077.

Notice of OFAC Actions

On December 1, 2015, OFAC blocked the property and interests in property of the following individuals pursuant to E.O. 13224, “Blocking Property and Prohibiting Transactions With Persons Who Commit, Threaten To Commit, or Support Terrorism”:

1. NUR, Mohammed (a.k.a. NUR, Mammam; a.k.a. NUR, Mohammad; a.k.a. NURA, Mohammed; a.k.a. NURU, Mallam Ahmed; a.k.a. “MUHAMMAD, Muhammad”); DOB 01 Jan 1972; POB Maiduguri, Nigeria; nationality Nigeria (individual) [SDGT] (Linked To: BOKO HARAM).

2. CHAD, Mustapha (a.k.a. TCHAD, Mustapha); DOB 01 Jan 1978; nationality Chad (individual) [SDGT] (Linked To: BOKO HARAM).

Dated: December 1, 2015.
John E. Smith,
Acting Director, Office of Foreign Assets Control.

[FR Doc. 2015-30646 Filed 12-3-15; 8:45 am]

BILLING CODE 4810-AL-P